OFFICE OF MANAGEMENT AND BUDGET

Audits of States, Local Governments, and Non-Profit Organizations; Circular A-133 Compliance Supplement

AGENCY: Executive Office of the President, Office of Management and Budget.

ACTION: Notice of availability of the 2002 Circular A-133 Compliance Supplement.

SUMMARY: On April 9, 2001 (66 FR 18517), the Office of Management and Budget (OMB) issued a notice of availability of the 2001 Circular A-133 Compliance Supplement. The notice also offered interested parties an opportunity to comment on the 2001 Circular A-133 Compliance Supplement. The 2002 Supplement has been updated to add 8 additional programs, updated for program changes, and makes technical corrections. A list of changes to the 2002 Supplement can be found at Appendix V of the supplement. Due to its length, the 2002 Supplement is not included in this Notice. See Addresses for information about how to obtain a copy. This Notice also offers interested parties an opportunity to comment on the 2002 Supplement.

DATES: The 2002 Supplement will apply to audits of fiscal years beginning after June 30, 2001 and supersedes the 2001 Supplement. All comments on the 2002 Supplement must be in writing and received by October 31, 2002. Late comments will be considered to the extent practicable.

ADDRESSES: Copies of the 2002 Supplement may be purchased at any Government Printing Office (GPO) bookstore (stock numbers: 041-001-00580-3 (paper) and 041-001-00581-1 (CD-ROM)). The main GPO bookstore is located at 710 North Capitol Street, NW, Washington, DC 20401, (202) 512-0132. A copy may also be obtained under the Grants Management heading from the OMB home page on the Internet which is located at www.omb.gov.

Comments on the 2002 Supplement should be mailed to the Office of Management and Budget, Office of Federal Financial Management, Room 6025, New Executive Office Building, Washington, DC 20503. Where possible, comments should reference the applicable page numbers. Electronic mail comments may be submitted to tramsey@omb.eop.gov. Please include the full body of the electronic mail comments in the text of the message and not as an attachment. Please include the name, title, organization, postal address, telephone number, and e-mail address of the sender in the text of the message.

FOR FURTHER INFORMATION CONTACT: Recipients should contact their cognizant or oversight agency for audit, or Federal awarding agency, as appropriate under the circumstances. Subrecipients should contact their pass-through entity. Federal agencies should contact Terrill W. Ramsey, Office of Management and Budget, Office of Federal Financial Management, telephone (202) 395-3993.

SUPPLEMENTARY INFORMATION: The Office of Management and Budget (OMB) received seven comment letters on the 2001 Supplement. The comment letters dealt with various technical issues and changes were made where appropriate.

Mark W. Everson,
Controller.

[FR Doc. 02-8119 Filed 4-3-02; 8:45 am]

BILLING CODE 3110-01-P